DEPARTMENT OF AGRICULTURE

Forest Service

Klamath National Forest, California, Eddy Gulch Late-Successional Reserve Fire/Habitat Protection Project

AGENCY: Forest Service, USDA.

ACTION: Notice of Intent to prepare an Environmental Impact Statement.

SUMMARY: The Klamath National Forest will prepare an environmental impact statement (EIS) to document and publicly disclose the environmental effects of implementing mechanical, manual, and prescribed burn treatments in the Eddy Gulch Late-Successional Reserve (LSR).

DATES: Comments concerning the scope of the analysis must be received within 30 days of the publication of this notice in the Federal Register. The draft EIS is expected in late fall of 2008, and the final EIS and Forest Service Record of Decision are expected in spring of 2009.

ADDRESSES: Send written comments to RED, Inc. Communications, the contractor hired by the Forest Service to conduct project planning and prepare the EIS. The mailing address is RED, Inc. Communications, P.O. Box 3067, Idaho Falls, ID, 83403, ATTN: Eddy Gulch LSR Project. The address for e-mailing comments is eddylsr@redinc.com. The project Web site is http://www.eddylsrproject.com.

FOR FURTHER INFORMATION: Visit the project Web site at http://www.eddylsrproject.com or contact Ray Haupt, Scott and Salmon River District Ranger, Klamath National Forest, 11263 N. Highway 3, Fort Jones, California 96032 or call 530-468-5351

SUPPLEMENTARY INFORMATION:

Background

On July 1, 2007, the Eddy Gulch LSR Project was included under the category of “developing proposal” in the Klamath National Forest's Schedule of Proposed Actions, which was posted on the Klamath National Forest's Web site. The Healthy Forest Restoration Act, Northwest Forest Plan (as incorporated in the Klamath National Forest Land and Resource Management Plan of 1995), and National Fire Plan direct agencies to conduct projects for habitat restoration and protection from catastrophic wildfire. Section 7(a)(1) of the Endangered Species Act directs federal agencies to carry out programs for the conservation of threatened and endangered species.

The Eddy Gulch LSR is on the Scott-Salmon River Ranger District, Klamath National Forest, Siskiyou County, California. The LSR is located mostly west of Etna Summit, south of North Russian Creek and the town of Sawyers Bar, east of Forks of Salmon, and north of Cecilville. The LSR encompasses much of the area between the North and South Forks of the Salmon River, as well as headwaters of Etna Creek. Elevations range from 1,100 feet to about 8,000 feet. The LSR is about 61,900 acres in size, making it one of the largest LSRs on the Klamath National Forest. The Assessment Area (37,239 acres) for the EIS is the Eddy Gulch LSR minus the portions in designated roadless areas and that portion of the LSR east of Etna Summit.

The goal of the Eddy Gulch Late-Successional Reserve Fire/Habitat Protection Project (Eddy Gulch LSR Project) EIS is to present an ecosystem-based approach for ensuring the safety of persons and communities and maintaining, protecting, and improving conditions of late-successional forest ecosystems, which serve as habitat for late-successional-associated species. This would be accomplished through fuels reduction and habitat development treatments using mechanical, manual, and prescribed fire treatment methods.

The initial mailing list for the project contained entities and individuals who were interested in past Klamath National Forest projects. Names and addresses were added to the mailing list based on zip codes in the vicinity of the Eddy Gulch LSR and attendance records from citizen collaboration meetings. The current mailing contains approximately 1,200 names and addresses of potentially affected Native American tribes, individuals, agencies with special expertise, organizations, and businesses. The first project newsletter was mailed in October 2007 to members of the mailing list, and a Web page was developed to provide additional information on the project: http://www.eddylsrproject.com.

On December 3, 2003, President Bush signed into law the Healthy Forests Restoration Act to reduce the threat of destructive wildfires while upholding environmental standards and encouraging early public input during review and planning processes. The legislation is based on sound science and helps further the President's Healthy Forests Initiative pledge to care for America's forests and rangelands, reduce the risk of catastrophic fire to communities, help save the lives of firefighters and citizens, and protect threatened and endangered species. The Healthy Forests Restoration Act contains a variety of provisions to speed up hazardous fuels reduction and forest restoration projects on specific types of federal lands that are at risk of wildland fire and/or insect and disease epidemics. The Healthy Forests Restoration Act established important objectives to fulfill that pledge; a few of those objectives are to:

1. Strengthen public participation in developing high-priority forest health projects by providing opportunities for earlier participation, thus accomplishing projects in a more timely fashion.

2. Reduce dense undergrowth that fuels catastrophic [stand-replacing] fires through thinning and prescribed burns.

3. Select projects on a collaborative basis, involving local, tribal, state, and federal agencies and nongovernmental entities.

4. Focus projects on federal lands that meet strict criteria for risk of wildfire.

The potential for large, high-intensity fire is a primary concern in the Eddy Gulch LSR. Current management issues [needs] include the reduction of high fire hazard conditions, protection and/or development of late-successional habitat, and the protection of areas that may have watershed-related features at risk. Also of concern is the protection of private property and emergency access routes that pass through the LSR. The Proposed Action addresses these management needs.

The proposed treatment locations and treatments were developed in response to protection targets identified in the Salmon River Community Wildfire Protection Plan, Black Bear Ranch Cooperative Fire Safe Plan, Rainbow Cooperative Fire Safe Plan, the Stewardship Fireshed Analysis that was conducted for the Eddy Gulch LSR Project, citizen collaboration workshops for the Fireshed Analysis and Eddy Gulch LSR Project, and direction provided by the U.S. Fish and Wildlife Service in Yreka, California. Numerous Forest Service documents guided development of the Proposed Action: The Klamath National Forest Forest-wide Late-Successional Reserve Assessment, Klamath National Forest Land and Resource Management Plan, Upper South Fork Ecosystem Analysis, North Fork Ecosystem Analysis, and Callahan (Main Salmon) Ecosystem Analysis.

Purpose of and Need for Action

Three primary objectives (purposes) for the Eddy Gulch LSR Project were developed based on differences between existing and desired resource and social conditions (need for the project) in the Eddy Gulch LSR, pertinent laws, and Forest Service direction.

1. Community Protection—to reduce wildfire threat to communities and municipal water supplies and increase public and firefighter safety. There is a need, consistent with objectives set forth in the Healthy Forests Restoration Act, to protect wildland-urban interface (WUI) structures, and related improvements and community access routes, from the threat of high-intensity wildfire outside, or emanating from, the Eddy Gulch LSR. Current and developing conditions in the LSR and along sections of all access roads will likely lead to moderate- and high-intensity fires caused by weather-related events (such as lightening) that will threaten structures, improvements, water sources, and travel routes.

2. Habitat Protection—to protect existing and future late-successional habitat from threats (of habitat loss) that occur inside and outside the Eddy Gulch LSR. There is a need to reduce fuel loading and develop a control strategy to reduce the size and severity of future wildfires in the Eddy Gulch LSR in order to continue to meet LSR and Key Watershed objectives for late-successional habitat and the delivery of high-quality cold water. The Eddy Gulch LSR is also within the Salmon River Key Watershed identified under the Northwest Forest Plan as critical for at-risk fish species—the watersheds provide high-quality water and fish habitat. Current risks to forest health throughout the Key Watersheds include vegetative stocking density, insects, and diseases. The exclusion of fire, combined with climatic conditions, has created overstocked stands. Due to fire exclusion and other policies that required the control of all fires, there have been changes in stand structures, including higher densities of ground and ladders fuels such as brush, small trees, and shade-tolerant tree species. Past fire suppression policies of controlling all fires have interrupted the historic role of fire as a thinning agent and for maintaining the volume of ground fuels. This has increased accumulation of dead and down woody material and organic debris (duff and litter) and has led to larger and more intense wildfires in the Klamath Mountains. These intense wildfires can permanently damage soil, degrade watersheds, and remove a high proportion of all vegetation over large areas, thereby slowing natural recovery and increasing impacts. Fire modeling, using current conditions, indicates that under 90th percentile weather (a hot dry August day), 50 percent of the LSR would experience active or passive crown fire. These models indicate the LSR would benefit from treatments to reduce the potential for lethal fire behavior to a level that would be more consistent with LSR, Key Watershed, and community protection objectives.

3. Habitat Development—to promote the continued development of late-successional characteristics. There is a need to accelerate the development of late-successional forest characteristics in some existing mid-successional forest stands. Approximately 45,220 acres of the 61,900-acre Eddy Gulch LSR (73 percent) are capable of producing late-successional habitat. Currently, 18,780 acres (or about 42 percent of the 45,220 acres) are currently vegetated by late-successional habitat. The combined acres vegetated by late- and mid-successional forest total 35,710 acres (or about 79 percent of the 45,220 acres). Based on interpretation of stand conditions, past management, expected fire losses, early photos, and an understanding of the disturbance regimes, it has been estimated that the amount of late-successional forest reasonably sustainable in the Eddy Gulch LSR is 45-65 percent of the capable area at any one time. The LSR would be considered functioning if it falls within this identified range. The Klamath National Forest Land and Resource Management Plan specifies that LSRs are to be managed to maximize the amount of late-successional forest to a level reasonably sustainable because surrounding areas of Matrix and private lands are expected to contain relatively little late-successional forest habitat.

The above three objectives helped guide the development of the proposed treatments and activities designed to maintain or establish a trend towards desired resource and social conditions.

Proposed Action

The Proposed Action has been designed to meet the purpose (objectives) of the Eddy LSR Project and satisfy the need for action by using mechanical, manual, and prescribed burn treatments.

The proposed treatment acres across the Eddy Gulch LSR Assessment Area are summarized below. The various treatment areas overlap, so the total area proposed for treatment is less than the sum of the acreages shown below:

1,999 acres in 69 mechanical treatment areas in the 20 proposed Fuel Reduction Zones (FRZs).

8,583 acres of underburning in the 20 FRZs.

17,808 acres of underburning in the 11 prescribed burn areas (areas other than in FRZs).

2,251 acres in 6 mechanical treatment areas in the 11 prescribed burn areas.

102 acres in 6 mechanical treatment areas not in an FRZ or prescribed burn area.

70 miles of mechanical treatments along roads.

4.5 miles of temporary road construction to access 885 acres in 14 of the mechanical treatment areas.

Twenty Fuel Reduction Zones. An FRZ is a strategically located and designed strip of land on which a portion of the surface fuels (both living and dead), ladder fuels, and canopy fuels are treated (removed, burned, or masticated) in order to limit the potential size of and loss of resources (including homes) from large, high-intensity wildfire. FRZs are wide enough to capture most short-range spot fires within the treated areas and are designed to bring crown fires into surface (ground) fire conditions, as well as to provide safe locations for fire-suppression personnel to take fire-suppression actions during 90th percentile weather conditions.

Eighty-one Mechanical Treatment Areas. Thinning to reduce density—mechanical treatments would be used to remove or rearrange fuels to reduce crown, ladder, and ground fuels and to shorten the time to reach the desired future conditions compared to the use of prescribed fire alone. Stands would be thinned to reduce stand densities, thereby reducing canopy cover (and the potential for passive and active crown fires. The resulting fuels from thinning would be removed or piled and burned. Thinning activities would also provide an opportunity for biomass utilization of the material. Thinning to reduce ladder fuels—thinning smaller diameter trees would increase the distance between the lower limbs of residual trees and brush or ground fuels. Ladder fuels consist of denser conifer vegetation and brush near the forest floor that can extend into residual trees. Ladder fuels increase the likelihood of a ground fire creating enough heat to ignite the ladder fuels (torching), with the subsequent fire reaching the crowns of the largest trees. Crown fires are more intense, harder for firefighters to suppress, and result in more devastating effects. In an effort to reduce the potential for crown fires, ladder fuels would be mechanically treated. After mechanical treatments, the fuels would be removed and treated with prescribed fire or masticated. Thinning to develop habitat—Overstocked mid-successional stands experience inter-tree competition that slows the stand's development into late-successional habitat. Thinning these stands from below would maintain or increase growth on the residual trees, thus accelerating the stand's development into late-successional habitat. In an LSR, stands would be considered for treatment only where thinning would increase, by 30 years, the stand's development into late-successional habitat, when compared to the stand's projected natural (unthinned) development.

Eleven Prescribed Burn Treatment Areas. Prescribed fire would be used to reduce hazardous fuels and interrupt the horizontal, and sometimes vertical, continuity of flammable materials on the forest floor. Pile burning—naturally occurring fuels and thinning residues (branches and limbs) would be piled and burned. Underburning—a prescribed burn under an existing canopy of trees (hardwoods or conifers) would be designed to reduce excess live and dead vegetation and scorch to kill vegetation to reduce ladder fuel conditions. Firelines would be constructed by mechanical or manual treatment methods.

The mechanical, manual, and prescribed burn treatments are proposed for the following locations:

1. Along ridges—these are the FRZs, which contain plantations, Riparian Reserves, roads, and habitat development areas.

2. Along roads—emergency access routes, open National Forest System roads, and county roads (roads occur inside and outside FRZs). Treatments would occur 200 feet above and 200 feet below roads; some areas along roads could be less than 200 feet due to variability in fuel types (such as brush, grass, or barren areas).

3. CWPP and other fire plan/community protection areas, FWS priority areas, and northern spotted owl activity centers.

4. Areas outside FRZs—includes the underburn areas, which contain plantations; Riparian Reserves; mechanical treatment areas and roads; and owl habitat development areas.

Responsible Official

Patricia Grantham, Acting Forest Supervisor, USDA Forest Service, 1312 Fairlane Road, Yreka, California 96097, will prepare and sign the Record of Decision at the conclusion of the NEPA review.

Nature of Decision To Be Made

The Forest Service is the lead agency for the Project. Based on the results of the NEPA analysis, the Forest Supervisor's Record of Decision regarding the Eddy Gulch LSR Project will recommend implementation of one of the following: (1) The proposed action and mitigation necessary to minimize or avoid adverse impacts; (2) an alternative to the proposed action and mitigation necessary to minimize or avoid adverse impacts, or (3) the no-action alternative. The Record of Decision will also document the consistency of the proposed action with the Klamath National Forest Land and Resource Management Plan (Forest Plan) (1995, as amended).

Collaboration Process

The Forest Service and contractor facilitated 14 collaboration meetings during the planning phase (September 2007-March 2008) for the Proposed Action. The meetings were held in the communities of Sawyers Bar, Forks of Salmon, Orleans, Fort Jones, and Yreka, California. Numerous collaboration meetings were also held with the U.S. Fish and Wildlife Service in Yreka, California. Comments and suggestions provided at the collaboration meetings were used, in part, to design the Proposed Action. Scoping comments will be used to refine the Proposed Action, as will additional data collected during extensive field reconnaissance during the spring and early summer of 2008.

Scoping Process—Comments Requested

Publication of this Notice of Intent initiates the scoping process for the Eddy Gulch LSR Project. The public is encouraged to take part in the process by reading the scoping information that was distributed by mail, with additional information and maps available on the project website (http://www.eddylsrproject.com). Comments are welcome throughout the environmental analysis process, but to be most useful for refining the Proposed Action, comments should be post-marked by April 28, 2008.

Early Notice of Importance of Public Participation in Subsequent Environmental Review

Following the 30-day scoping period announced in this notice, the Forest Service and Contractor will begin preparation of the draft EIS. The comment period on the draft EIS will be 45 days from the date the Environmental Protection Agency publishes the notice of availability in the Federal Register. The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final EIS may be waived or dismissed by the courts. City of Angoon v. Hodel, 803 F.2d 1016, 1022 (9th Cir. 1986) and Wisconsin Heritages, Inc. v. Harris, 490 F. Supp. 1334, 1338 (E.D. Wis 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific line and page numbers of the draft statement.

Comments may also address the adequacy of the draft EIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Authority: 40 CFR 1501.7 and 1508.22; Forest Service Handbook 1909.15, Section 21.

Dated: March 25, 2008.
Patricia A. Grantham,
Deputy Forest Supervisor, Klamath National Forest.

[FR Doc. E8-6628 Filed 3-31-08; 8:45 am]

BILLING CODE 3410-11-P